EQUAL EMPLOYMENT OPPORTUNITY COMMISSION

Privacy Act of 1974; Systems of Records

AGENCY: Equal Employment Opportunity Commission

ACTION: Notice of a new system of records.

SUMMARY: The Equal Employment Opportunity Commission (hereinafter “EEOC” or “the Commission”) proposes to create a new Religious Accommodation system of records to maintain information collected in response to a request for an accommodation based on a sincerely held religious belief, practice, or observance.

DATES: This system of records will be effective upon publication in the Federal Register with the exception of new routine uses which will become effective April 13, 2022. Comments must be received on or before April 13, 2022.

ADDRESSES: You may submit comments by any of the following methods:

• Federal eRulemaking Portal: http://www.regulations.gov. Follow the instructions online for submitting comments.

• Fax: Comments totaling six or fewer pages may be sent by fax to (202) 663-4114. Receipt of fax transmittals will not be acknowledged; the sender may request confirmation of receipt by calling the Executive Secretariat staff at (202) 921-2815 (voice) or 1 (800) 669-6820 (TTY) or (844) 234-5122 (ASL). (These are not toll-free numbers).

• Mail: Shelley Kahn, Acting Executive Officer, Executive Secretariat, U.S. Equal Employment Opportunity Commission, 131 M Street NE, Washington, DC 20507.

• Hand Delivery/Courier: Shelley Kahn, Acting Executive Officer, Executive Secretariat, U.S. Equal Employment Opportunity Commission, 131 M Street NE, Washington, DC 20507.

Instructions: The Commission invites comments from all interested parties. Comments need be submitted in only one of the above-listed formats. All comments received will be posted without change to http://www.regulations.gov, including any personal information you provide. Comments must be received on or before April 13, 2022.

Docket: For access to comments received visit http://www.regulations.gov.

FOR FURTHER INFORMATION CONTACT: Kathleen Oram, Assistant Legal Counsel, at kathleen.oram@eeoc.gov, or Savannah Marion Felton, Senior Attorney, at savannah.felton@eeoc.gov.

SUPPLEMENTARY INFORMATION: In accordance with the Privacy Act of 1974, EEOC proposes to create a new Religious Accommodation SORN (EEOC-23) for records related to accommodation requests based on a sincerely held religious belief, practice, or observance. Title VII of the Civil Rights Act of 1964 prohibits discrimination, including on the basis of religion. Title VII also requires an employer, once on notice, to reasonably accommodate an employee whose sincerely held religious belief, practice, or observance conflicts with a work requirement, unless providing the accommodation would create an undue hardship. 42 U.S.C. 2000e(j). As a result, EEOC employees and applicants have the right to request an accommodation based on a sincerely held religious belief, practice, or observance. The EEOC's Office of the Chief Human Capital Officer processes requests for accommodations from employees and applicants based on a sincerely held religious belief, practice, or observance. The request (including any documentation provided in support of the request), notes or records made during consideration of requests, decisions on requests, records made to implement or track decisions on requests and similar documentation related to requests for reconsideration, are all covered by this system of records.

For the Commission,
Charlotte A. Burrows,
Chair.

SYSTEM NAME AND NUMBER:

EEOC-23: Religious Accommodation Records.

SECURITY CLASSIFICATION:

This system of records does not contain classified records.

SYSTEM LOCATION:

Office of the Chief Human Capital Officer, Equal Employment Opportunity Commission, 131 M Street NE, Washington, DC 20507.

SYSTEM MANAGER(S):

Accommodations Manager, Office of the Chief Human Capital Officer, Equal Employment Opportunity Commission, 131 M Street NE, Washington, DC 20507; religious.accommodation@eeoc.gov.

AUTHORITY FOR MAINTENANCE OF THE SYSTEM:

Title VII of the Civil Rights Act of 1964, 42 U.S.C. 2000e(j), as amended; 29 CFR 1614 (Federal Sector Equal Employment Opportunity); 29 CFR 1605 (Guidelines on Discrimination Because of Religion); EEOC Order 560.009.

PURPOSE(S) OF THE SYSTEM:

This system is maintained for the purpose of considering, deciding, and implementing requests for accommodations for sincerely held religious beliefs, practice, or observances made by EEOC employees and applicants.

CATEGORIES OF INDIVIDUALS COVERED BY THE SYSTEM:

Current and former EEOC employees and applicants who request accommodations based on a sincerely held religious belief, practice, or observance.

CATEGORIES OF RECORDS IN THE SYSTEM:

Requests for religious accommodations; notes or records made during consideration of requests; decisions on requests; records made to implement or track decisions on requests; requests for reconsideration; notes or records made during consideration of requests for reconsideration; final decisions made in response to requests for reconsideration; records made to implement or track decisions on requests for reconsideration.

RECORD SOURCE CATEGORIES:

Information contained in this system is obtained from the current or former employee or applicant requesting a religious accommodation, the Office of the Chief Human Capital Officer, and management officials.

ROUTINE USES OF RECORDS MAINTAINED IN THE SYSTEM, INCLUDING CATEGORIES OF USERS AND PURPOSES OF SUCH USES:

These records and information in these records are used:

a. To disclose information to another Federal agency, to a court, or to a party in litigation before a court or in an administrative proceeding being conducted by a Federal agency when the Government is a party to the judicial or administrative proceeding, and the EEOC determines that use of such records is relevant and necessary to the litigation or proceeding.

b. To disclose information to a congressional office from the record of an individual in response to an inquiry from the congressional office made at the request of the individual.

c. To disclose to an authorized appeal grievance examiner, formal complaints examiner, administrative judge, equal employment opportunity investigator, arbitrator, or other duly authorized official engaged in investigation or settlement of a grievance, complaint, or appeal filed by an employee.

d. To disclose to appropriate agencies, entities, and persons when: (1) The EEOC suspects or has confirmed that there has been a breach of the system of records; (2) the EEOC has determined that as a result of the suspected or confirmed breach there is a risk of harm to individuals, the EEOC (including its information systems, programs, and operations), the Federal government, or national security; and (3) the disclosure made to such agencies, entities, and persons is reasonably necessary to assist in connection with the EEOC's efforts to respond to the suspected or confirmed breach or to prevent, minimize, or remedy such harm.

e. To disclose to another Federal agency or Federal entity when the EEOC determines that information from this system of records is reasonably necessary to assist the recipient agency or entity in (1) responding to a suspected or confirmed breach or (2) preventing, minimizing, or remedying the risk of harm to individuals, the recipient agency or entity (including its information systems, programs, and operations), the Federal government, or national security, resulting from a suspected or confirmed breach.

POLICIES AND PRACTICES FOR STORAGE OF RECORDS:

Maintained in locked file cabinets and electronically.

POLICIES AND PRACTICES FOR RETRIEVAL OF RECORDS:

Indexed by name of employee or applicant and office location, or by assigned number.

POLICIES AND PRACTICES FOR RETENTION AND DISPOSAL OF RECORDS:

These records are maintained in the Office of the Chief Human Capital Officer for the longer of an employee's tenure with EEOC or 5 years. Thereafter, they will be destroyed.

ADMINSTRATIVE, TECHNICAL, AND PHYSICAL SAFEGUARDS:

Files are maintained in locked cabinets. Access is restricted to EEOC personnel whose official duties require such access. Access to computerized records is limited, through use of logins and passwords, to those whose official duties require access.

RECORD ACCESS PROCEDURES:

Inquiries concerning this system of records should be addressed to the System Manager. It is necessary to provide the full name of the individual whose records are requested, position title and office location at the time the accommodation was requested, and a mailing or email address to which a response may be sent.

CONTESTING RECORD PROCEDURES:

See Record Access Procedures.

NOTIFICATION PROCEDURES:

See Record Access Procedures.

EXEMPTIONS PROMULGATED FOR THE SYSTEM:

There are no exemptions applicable to this system of records.

HISTORY:

None.

[FR Doc. 2022-05257 Filed 3-11-22; 8:45 am]

BILLING CODE 6570-01-P